DEPARTMENT OF COMMERCE

International Trade Administration

Notice of Scope Ruling Applications Filed in Antidumping and Countervailing Duty Proceedings

AGENCY: Enforcement and Compliance, International Trade Administration, Department of Commerce.

SUMMARY: The U.S. Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of July 2024.

DATES: Applicable September 12, 2024.

FOR FURTHER INFORMATION CONTACT: Terri Monroe, AD/CVD Operations, Customs Liaison Unit, Enforcement and Compliance, International Trade Administration, U.S. Department of Commerce, 1401 Constitution Avenue NW, Washington, DC 20230, telephone: (202) 482-1384.

SUPPLEMENTARY INFORMATION:

Notice of Scope Ruling Applications

In accordance with 19 CFR 351.225(d)(3), we are notifying the public of the following scope ruling applications related to AD and CVD orders and findings filed in or around the month of June 2024. This notification includes, for each scope application: (1) identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”)

Scope Ruling Applications

Ceramic Tile from the People's Republic of China (China) (A-570-108/C-570-109); Ornamental roof tiles, components, decorations and board brick (Ornamental Roof Tiles); ² produced in and exported from China; submitted by Landscape Associates, Inc. (Landscape Associates); July 1, 2024; ACCESS scope segment “Landscape Assoc. Ornamental Roof Tiles.”

² The products are Chinese ornamental roof tiles, components, decorations and board brick made of Kaolin clay, bauxite and porcelain clay.

Magnesium Metal from China (A-570-896); Magnesium Alloy Chips; ³ produced in and exported from Japan; submitted by Monko LLC (Monko); July 2, 2024; ACCESS scope segment “Magnesium Alloy Chips.”

³ The products are magnesium alloy chips consisting of 9% by weight of aluminum, 1% by weight of zinc, and the remaining balance pure magnesium ingot from China. The chips are grated in a rectangular shape approximately 4 mm long with a thickness of 1~2mm.

Certain Steel Racks and Parts thereof from China (A-570-088/C-570-089); Steel Pods with or without additional support (Steel Pods); ⁴ produced in and exported from China; submitted by LEDVANCE LLC (LEDVANCE); July 17, 2024; ACCESS scope segment “AGV Steel Pods.”

⁴ The products are steel pods entered with or without additional supports. The steel pods can be characterized as a horizontal and rectangular surface, which is supported off the ground with four legs; one in each corner of the rectangle. The pod legs are welded to the horizontal frame. The surface is created by the intersection of bars running across the rectangle. There is one main bar that runs the long way from one end to the other; and four supporting bars, which run perpendicular to the main bar. They are all welded at the perimeter, and to each other in the middle of the rectangle. This describes the base unit of the pod. It is made of carbon steel with an epoxy powder coating.

Boltless Steel Shelving Units Prepackaged for Sale from China (A-570-018/C-570-019); Steel Pods with or without additional support (Steel Pods); ⁵ produced in and exported from China; submitted by LEDVANCE; July 17, 2024; ACCESS scope segment “Ledvance Steel Pods.”

⁵ The products are steel pods entered with or without additional supports. The steel pods can be characterized as a horizontal and rectangular surface, which is supported off the ground with four legs; one in each corner of the rectangle. The pod legs are welded to the horizontal frame. The surface is created by the intersection of bars running across the rectangle. There is one main bar that runs the long way from one end to the other; and four supporting bars, which run perpendicular to the main bar. They are all welded at the perimeter, and to each other in the middle of the rectangle. This describes the base unit of the pod. It is made of carbon steel with an epoxy powder coating.

Forged Steel Fittings from Italy (A-475-839); PFT Hub and Cap System (Hub and Cap); ⁶ produced in and exported from Italy; submitted by National Oilwell Varco, L.P. (NOV); July 25, 2024; ACCESS scope segment “PFT Hub and Cap.”

⁶ The product is a PFT Hub and Cap System, otherwise known as threaded closure, where a hub is butt welded to the end of a pipe and cap is threaded to the end of the hub. The system is available for installation vertically, horizontally, or angled. The PFT Hub and Cap System is available in sizes from 2″ to 12″, and larger sizes upon request.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁷ Commerce's practice generally dictates that where a deadline falls on a weekend, Federal holiday, or other non-business day, the appropriate deadline is the next business day.⁸ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁹

⁷ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁸ See Notice of Clarification: Application of “Next Business Day” Rule for Administrative Determination Deadlines Pursuant to the Tariff Act of 1930, As Amended, 70 FR 24533 (May 10, 2005).

⁹ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.¹⁰

¹⁰ See Scope Ruling Application; Annual Inquiry Service List; and Informational Sessions, 86 FR 53205 (September 27, 2021).

Interested parties are invited to comment on the completeness of this monthly list of scope ruling applications received by Commerce. Any comments should be submitted to James Maeder, Deputy Assistant Secretary for AD/CVD Operations, Enforcement and Compliance, International Trade Administration, via email to CommerceCLU@trade.gov.

This notice of scope ruling applications filed in AD and CVD proceedings is published in accordance with 19 CFR 351.225(d)(3).

Dated: September 6, 2024.
Scot Fullerton,
Acting Deputy Assistant Secretary for Antidumping and Countervailing Duty Operations.

[FR Doc. 2024-20672 Filed 9-11-24; 8:45 am]

BILLING CODE 3510-DS-P